DEPARTMENT OF COMMERCE

International Trade Administration

[A-580-891]

Carbon and Alloy Steel Wire Rod From the Republic of Korea: Final Results of Antidumping Duty Administrative Review; 2019-2020

AGENCY: Enforcement and Compliance, International Trade Administration, Department of Commerce.

SUMMARY: The Department of Commerce (Commerce) determines that POSCO, the sole producer and exporter subject to this review, made sales of subject merchandise at less than normal value during the period of review (POR), May 1, 2019, through April 30, 2020.

DATES: Applicable February 2, 2022.

FOR FURTHER INFORMATION CONTACT: Lingjun Wang, AD/CVD Operations, Office VII, Enforcement and Compliance, International Trade Administration, U.S. Department of Commerce, 1401 Constitution Avenue NW, Washington, DC 20230; telephone: (202) 482-2316.

SUPPLEMENTARY INFORMATION:

Background

On August 4, 2021, Commerce published the Preliminary Results ¹ of this administrative review. POSCO is the sole producer and exporter subject to the review. For a complete description of the events that followed the Preliminary Results, see the Issues and Decision Memorandum.² Commerce conducted this review in accordance with section 751(a) of the Tariff Act of 1930, as amended (the Act).

¹ See Carbon and Alloy Steel Wire Rod from the Republic of Korea: Preliminary Results of Antidumping Duty Administrative Review; 2019-2020, 86 FR 41951 (August 4, 2021) (Preliminary Results).

² See Memorandum, “Issues and Decision Memorandum for the Final Results of Administrative Review of the Antidumping Duty Order on Carbon and Alloy Steel Wire Rod from the Republic of Korea; 2019-2020,” dated concurrently with, and hereby adopted by, this notice (Issues and Decision Memorandum).

Scope of the Order ³

³ See Carbon and Alloy Steel Wire Rod from Italy, the Republic of Korea, Spain, the Republic of Turkey, and the United Kingdom: Antidumping Duty Orders and Amended Final Affirmative Antidumping Duty Determinations for Spain and the Republic of Turkey, 83 FR 23417 (May 21, 2018) (Order).

The scope of the Order includes certain hot-rolled products of carbon steel and alloy steel, in coils, of approximately round cross section, less than 19.00 mm in actual solid cross-sectional diameter. On April 8, 2019, Commerce excluded from the scope of the Order grade 1078 and higher tire cord quality wire rod used in the production of tire cord wire.⁴ On June 13, 2019, Commerce excluded from the scope of the Order valve spring quality steel products defined as wire rod.⁵ For a complete description of the scope of the Order, see the Issues and Decision Memorandum.

⁴ See Carbon and Alloy Steel Wire Rod from the Republic of Korea and the United Kingdom: Notice of Final Results of Antidumping Duty Changed Circumstances Review, 84 FR 13888 (April 8, 2019).

⁵ See Carbon and Alloy Steel Wire Rod from the Republic of Korea: Final Results of Antidumping Duty Changed Circumstances Review, 84 FR 27582 (June 13, 2019).

Analysis of Comments Received

We addressed all issues raised in the case and rebuttal briefs in the Issues and Decision Memorandum. A list of these issues is attached in an appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Change Since the Preliminary Results

Based on our analysis of the comments received from interested parties, a review of the record, and for the reasons explained in the Issues and Decision Memorandum, we revised the general and administrative expenses ratio and changed the preliminary margin calculation.

Final Results of the Review

We determine that the following weighted-average dumping margin exists for the period May 1, 2019, through April 30, 2020:

Producer and/or Exporter | Weighted-Average Dumping Margin (percent)
POSCO | 7.46

Disclosure

We intend to disclose the calculations performed for the final results within five days of the publication date of this notice in the Federal Register, in accordance with section 751(a) of the Act and 19 CFR 351.224(b).

Assessment Rates

Pursuant to section 751(a)(2)(C) of the Act and 19 CFR 351.212(b), Commerce shall determine, and U.S. Customs and Border Protection (CBP) shall assess, antidumping duties on all appropriate entries of subject merchandise in accordance with the final results of this review.⁶ In accordance with 19 CFR 351.212(b)(1), Commerce calculated an importer-specific ad valorem antidumping assessment rate for POSCO that is not zero or de minimis, and will instruct CBP to assess antidumping duties on all appropriate entries covered by this review.

⁶ See Antidumping Proceeding: Calculation of the Weighted-Average Dumping Margin and Assessment Rate in Certain Antidumping Duty Proceedings; Final Modification, 77 FR 8101 (February 14, 2012).

Consistent with Commerce's assessment practice, for entries of subject merchandise during the POR produced by POSCO for which it did not know that the merchandise was destined for the United States, we will instruct CBP to liquidate unreviewed entries at the all-others rate if there is no rate for the intermediate company(ies) involved in the transaction.⁷

⁷ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review, as provided by section 751(a)(2)(C) of the Act: (1) The cash deposit rate for POSCO is equal to the weighted-average dumping margin established in the final results of this review; (2) for previously investigated companies not participating in this review, the cash deposit rate will continue to be the company-specific rate published for the most recently completed segment of this proceeding; (3) if the exporter was not covered in this review or the investigation, but the producer was covered, the cash deposit rate will be the rate established in the most recently completed segment of this proceeding for the producer of subject merchandise; and (4) the cash deposit rate for all other producers or exporters will continue to be 41.10 percent, the all-others rate established in the original less-than-fair-value investigation.⁸ These cash deposit requirements, when imposed, shall remain in effect until further notice.

⁸ See Order.

Notification to Importers

This notice serves as a final reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

Administrative Protective Order

This notice also serves as the only reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i)(1) of the Act, and 19 CFR 351.213(h) and 351.221(b)(5).

Dated: January 27, 2022.
Lisa W. Wang,
Assistant Secretary for Enforcement and Compliance.

Appendix

List of Topics Discussed in the Issues and Decision Memorandum

I. Summary

II. Background

III. Scope of the Order

IV. Change Since the Preliminary Results

V. Discussion of Issues

Comment 1: Whether a Constructed Export Price (CEP) Offset is Warranted

Comment 2: Whether the POR is the Correct Reporting Period for Cost of Production

Comment 3: Whether Cost Adjustments for Purchases of Inputs from Affiliated Suppliers are Warranted

Comment 4: Whether Commerce Should Exclude Four Items from POSCO's General and Administrative Expenses (G&A) Ratio

VI. Recommendation

[FR Doc. 2022-02140 Filed 2-1-22; 8:45 am]

BILLING CODE 3510-DS-P